DEPARTMENT OF THE INTERIOR

Fish and Wildlife Service

Notice of Availability of the Final Sentry Milk-Vetch Recovery Plan

AGENCY: Fish and Wildlife Service, Interior.

ACTION: Notice of availability.

SUMMARY: We, the U.S. Fish and Wildlife Service (Service), announce the availability of the final recovery plan for the sentry milk-vetch (Astragalus cremnophylax var. cremnophylax). Three populations of this endangered plant are known to occur on land managed by the National Park Service in the Grand Canyon National Park (Park) in Coconino County, Arizona.

ADDRESSES: Persons may obtain a copy of the recovery plan by accessing the Service's Arizona Ecological Services Field Office Internet Web page at http://arizonaes.fws.gov or by contacting the Field Supervisor, Arizona Ecological Services Field Office, U.S. Fish and Wildlife Service, 2321 West Royal Palm Road, Suite 103, Phoenix, Arizona, 85021-4951 (602/242-0210) to obtain a copy via the mail or in person at the addresses above.

FOR FURTHER INFORMATION CONTACT: Mima Falk, Arizona Ecological Services Tucson Suboffice, 201 N Bonita Ave., Tucson, Arizona 85745 (520/670-6150 ext. 225).

SUPPLEMENTARY INFORMATION:

Background

Restoring an endangered or threatened animal or plant species to the point where it is again a secure, self-sustaining member of its ecosystem is a primary goal of the Service's endangered species program. To help guide the recovery effort, the Service is working to prepare recovery plans for most of the listed species native to the United States. Recovery plans describe actions considered necessary for conservation of species, establish criteria for the recovery levels for downlisting or delisting them, and estimate time and cost for implementing the recovery measures needed.

The Endangered Species Act of 1973 (Act), as amended (16 U.S.C. 1531 et seq.), requires the development of recovery plans for listed species, unless such a plan would not promote the conservation of a particular species. Section 4(f) of the Act, as amended in 1988, requires that public notice and an opportunity for public review and comment be provided during recovery plan development. We will consider all information presented during the public comment period prior to approval of each new or revised recovery plan. We, along with other Federal agencies, will also take these comments into account in the course of implementing approved recovery plans.

The recovery plan describes the status, current management, recovery criteria, and specific actions needed to reclassify the sentry milk-vetch from endangered to threatened and for eventual consideration for delisting. An original draft of the recovery plan was developed by Dr. Joyce Maschinski, a botanist and species specialist from the Arboretum at Flagstaff. The document was reviewed and updated by a team of botanists, soil scientists, naturalists and National Park Service land managers that have a history of researching or managing the plant and its habitat. In 1993, the draft recovery plan for the sentry milk-vetch underwent technical and public review, but was not finalized at that time due to other high priority work. The reviews received on the 1993 draft are maintained in the Service's administrative record. The draft plan was subsequently updated again and made available for public and peer review in 2004 (69 FR 55447), with a re-opening of the public comment period for an additional 30 days in 2005 (70 FR 1736).

Sentry milk-vetch is known from three locations on the South Rim of the Grand Canyon, where Kaibab limestone forms large flat platforms with shallow soils near pinyon-juniper woodlands. There are currently fewer than 600 individual sentry milk-vetch plants between the three locations. The primary cause of decline of the largest population at Maricopa Point prior to protection was trampling by Park visitors, although drought conditions may have worsened the situation. We carefully assessed the best scientific and commercial information available regarding the past, present, and future threats faced by sentry milk-vetch as part of our 1990 final determination to list this species as endangered (55 FR 50184). The four major threats identified in the rule listing the species were: (1) Destruction of habitat and damage to individuals through human disturbance (trampling); (2) over-utilization due to collection; (3) inadequacy of existing regulatory mechanisms to provide protection of habitat; and (4) naturally low reproduction of the species. The recovery plan reassesses current threats to the species and provides recovery actions to lessen and alleviate significant threats.

The recovery plan recommends downlisting to threatened when four viable populations of 1,000 plants each have been established and maintained for 10-30 years, and delisting when eight populations have been established and maintained for 10-30 years. These criteria are based on considerations of population viability and resiliency, redundancy, climatic factors, and habitat protection. The time to reach downlisted or recovered status is not known, but will depend on the time necessary to survey existing habitat, accomplish priority research needs, establish a botanical garden population, establish new wild populations, and implement management to protect the species. Estimated costs for the first 5 years of recovery implementation total $963,000.

Authority

The authority for this action is Section 4(f) of the Endangered Species Act, 16 U.S.C. 1533(f).

Dated: September 6, 2006.
Christopher T. Jones,
Acting Regional Director, Region 2, Fish and Wildlife Service.

[FR Doc. E6-15873 Filed 9-26-06; 8:45 am]

BILLING CODE 4310-55-P